DEPARTMENT OF LABOR

Employment and Training Administration

[TA-W-40,234]

Agere Systems, Orlando, FL; Notice of Negative Determination Regarding Application for Reconsideration

By application received April 25, 2002, the International Brotherhood of Electrical Workers (IBEW), Local Union 2000, requested administrative reconsideration of the Department's negative determination regarding eligibility for workers and former workers of the subject firm to apply for Trade Adjustment Assistance (TAA). The denial notice was signed on March 11, 2002 and published in the Federal Register on March 29, 2002 (67 FR 15225).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The TAA petition filed on behalf of workers at Agere Systems, Orlando, Florida engaged in the production of wafers for integrated circuits, was denied because the “contributed importantly” group eligibility requirement of Section 222(3) of the Trade Act of 1974, as amended, was not met. The subject firm did not import wafers. The subject firm primarily produced wafers for export.

The IBEW requests administrative reconsideration based on the fact that the wafers produced by the subject plant are shipped to foreign sources, then produced into computer chips and a portion of those foreign produced computer chips are then imported back to the United States

Imports “like or directly competitive” with what the subject plant produced must “contribute importantly” to the layoffs at the subject firm. Therefore, the scenario as presented by the petitioner relating to the subject plant's wafer production being exported to Asia, produced into computer chips and then imported back to the United States does not meet the eligibility requirements of the Trade Act of 1974. The product produced by the subject firm, a wafer (which includes the circuit) is not “like or directly competitive” with a finished integrated circuit, such as a computer chip.

The IBEW further indicates that the subject plant produced the same product as TAA certified plants at Agere Systems, Integrated Circuits, Reading, Pennsylvania (TA-W-39,437) and the Integrated Circuits Division, Allentown, Pennsylvania (TA-W-39,449).

A review and further clarification from the company shows that a meaningful portion of the products produced at the Pennsylvania plants were finished integrated circuits, not the wafers (with circuits) as produced by the subject plant. The Pennsylvania plants served a different customer base than the subject plant. The wafers (with circuits) are not like or directly competitive with the finished products produced at the Pennsylvania facilities. The subject plant's wafer production is not integrated into the TAA certified Pennsylvania plants' production. Therefore, the “contributed importantly” criterion is not met.

Conclusion

After review of the application and investigative findings, I conclude that there has been no error or misinterpretation of the law or of the facts which would justify reconsideration of the Department of Labor's prior decisions. Accordingly, the application is denied.

Signed at Washington, DC, this 6th day of June, 2002.
Edward A. Tomchick
Director, Division of Trade Adjustment Assistance.

[FR Doc. 02-15746 Filed 6-20-02; 8:45 am]

BILLING CODE 4510-30-P